Title 3—

The President

Proclamation 10010 of April 17, 2020

National Crime Victims' Rights Week, 2020

By the President of the United States of America

A Proclamation

In 1981, President Ronald Reagan proclaimed the first National Crime Victims' Rights Week to acknowledge the abuse and trauma that victims of crimes often experience, and to recognize the tireless work of dedicated advocates who have taken up the cause of supporting crime victims across our country. Thanks to the efforts of these individuals, more victims are receiving the care they deserve and accessing tools to empower them as they recover. This week, we express our appreciation for those who support crime victims, and we reaffirm our strong commitment to reducing the trauma of crime for victims and their loved ones.

My Administration remains focused on helping victims of crime recover from and overcome the physical, emotional, and financial suffering they have endured. As one of my first acts as President, I established the Victims of Immigrant Crime Engagement (VOICE) Office within the Department of Homeland Security to serve the needs of Angel Families who suffered as a result of crimes committed by illegal immigrants. Additionally, for Fiscal Year 2018 alone, the Department of Justice's Office for Victims of Crime awarded more than $2.3 billion in grants for victim assistance and compensation programs. These dollars financed services for more than 6 million victims, provided millions in compensation, and did not cost taxpayers a dime. It all came from the fines and penalties paid by convicted Federal offenders. As part of our support for crime victims, we are also providing significant funding to operate local domestic violence shelters, elder abuse programs, child advocacy centers, rape crisis centers, homicide support groups, and other victim assistance programs across the United States. Through programs like these, victims of crimes are better able to begin the healing process and work to rebuild their lives.

Our Nation's law enforcement officers also provide critical support to crime victims. These brave men and women serve as the first line of response for many victims of crime, and my Administration remains committed to empowering them as they fulfill this and all of their duties to their communities. To further enhance public safety and the oversight of justice, my Administration established the Presidential Commission on Law Enforcement and the Administration of Justice. This commission, the first of its kind in more than 50 years, is set up to study the biggest threats to law and order and help our law enforcement officers increase the safety of our Nation. By providing more resources to first responders to carry out their mission, we are more effectively assisting crime victims and empowering law enforcement to prevent crimes before they occur.

This week, we are reminded that in many cases crime victims experience long-lasting trauma and need assistance. We must continue to champion efforts to expand their access to quality services and to fight alongside them to secure the justice they deserve. My Administration will never stop working to achieve this goal, and we will always strive toward a better future for all Americans free from crime.

NOW, THEREFORE, I, DONALD J. TRUMP, President of the United States of America, by virtue of the authority vested in me by the Constitution and the laws of the United States, do hereby proclaim April 19 through April 25, 2020, as National Crime Victims' Rights Week. I urge all Americans, families, law enforcement, community and faith-based organizations, and private organizations to work together to support victims of crime and protect their rights.

IN WITNESS WHEREOF, I have hereunto set my hand this seventeenth day of April, in the year of our Lord two thousand twenty, and of the Independence of the United States of America the two hundred and forty-fourth.

[FR Doc. 2020-08838

Filed 4-22-20; 11:15 am]

Billing code 3295-F0-P